DEPARTMENT OF ENERGY

Federal Energy Regulatory Commission

[Docket Nos. RP00-428-000 and RP91-143-050]

Great Lakes Gas Transmission; Notice of Extension of Comment Period

August 25, 2000.

On August 21, 2000, the Public Service Commission of the State of New York (New York), filed a request for an extension of time to September 5, 2000, within which to file comments in the above-docketed proceeding. New York avers it only recently learned of the subject filing and needs more time to secure a copy and an opportunity to review it. As more fully detailed below, New York's motion is granted.

On July 31, 2000, Great Lakes Gas Transmission Limited Partnership (Great Lakes) filed a Joint Stipulation and Agreement Regarding Rates (Settlement) pursuant to Rule 602 of the Commission's Rules of Practice and Procedures. In its motion, New York further states it has an interest in the proceeding as it impacts the terms of service and the rates charged ratepayers in the state of New York.

Upon consideration, notice is hereby given that an extension of time within which parties may file comments in the above-docketed proceeding is granted. Initial Comments on the Settlement will now be due on September 5, 2000, and Reply Comments will now be due on September 14, 2000.

Linwood A. Watson, Jr.,
Acting Secretary.

[FR Doc. 00-22257 Filed 8-30-00; 8:45 am]

BILLING CODE 6717-01-M